DEPARTMENT OF ENERGY

Environmental Management Site-Specific Advisory Board, Northern New Mexico

AGENCY: Office of Environmental Management, Department of Energy.

ACTION: Notice of open virtual meeting.

SUMMARY: This notice announces an online virtual meeting of the Environmental Management Site-Specific Advisory Board (EM SSAB), Northern New Mexico. The Federal Advisory Committee Act requires that public notice of this online virtual meeting be announced in the Federal Register.

DATES: Wednesday, March 17, 2021; 1:00 p.m.-5:00 p.m.

ADDRESSES: This meeting will be held virtually via Webex. To attend, please contact Menice Santistevan by email, Menice.Santistevan@em.doe.gov, no later than 5:00 p.m. MST on Monday, March 15, 2021.

To Sign Up For Public Comment: Please contact Menice Santistevan by email, Menice.Santistevan@em.doe.gov, no later than 5:00 p.m. MST on Monday, March 15, 2021.

FOR FURTHER INFORMATION CONTACT: Menice Santistevan, Northern New Mexico Citizens' Advisory Board (NNMCAB), 94 Cities of Gold Road, Santa Fe, NM 87506. Phone (505) 995-0393 or Email: Menice.Santistevan@em.doe.gov.

SUPPLEMENTARY INFORMATION:

Purpose of the Board: The purpose of the Board is to make recommendations to DOE-EM and site management in the areas of environmental restoration, waste management, and related activities.

Tentative Agenda

• Call to Order

• Welcome and Introductions

• Roll Call

• Overview and Approval of Agenda

• Approval of January 13, 2021 Minutes

• Old Business

○ Report from NNMCAB Chair and Vice Chair

○ Report from NNMCAB Committee Chairs

○ Discussion on Charges from Acting Assistant Secretary for EM

• New Business

○ Discussion on Draft Recommendation(s)

○ Other Items

• Update on the Waste Isolation Pilot Plant

• Budget Update from EM Los Alamos Field Office

• Update from EM Los Alamos Field Office

• Update from NNMCAB Deputy Designated Federal Officer

• Update from N3B

• Update from New Mexico Environment Department

• Public Comment Period

• Future Presentation Requests

• Wrap-Up and Comments from NNMCAB Members

• Adjourn

Public Participation: The online virtual meeting is open to the public. Written statements may be filed with the Board either before or within five days after the meeting by sending them to Menice Santistevan at the aforementioned email address. The Deputy Designated Federal Officer is empowered to conduct the meeting in a fashion that will facilitate the orderly conduct of business. Individuals wishing to make public comments will be provided a maximum of five minutes to present their comments.

Minutes: Minutes will be available by writing or calling Menice Santistevan at the address or telephone number listed above. Minutes and other Board documents are on the internet at: https://www.energy.gov/em/nnmcab/meeting-materials.

Signed in Washington, DC, on February 9, 2021.
LaTanya Butler,
Deputy Committee Management Officer.

[FR Doc. 2021-03022 Filed 2-12-21; 8:45 am]

BILLING CODE 6450-01-P